DEPARTMENT OF COMMERCE

National Oceanic and Atmospheric Administration

Science Advisory Board (SAB); Notice of a Meeting

AGENCY: Office of Oceanic and Atmospheric Research (OAR), National Oceanic and Atmospheric Administration (NOAA), Department of Commerce (DOC).

ACTION: Notice of public meeting.

SUMMARY: This notice sets forth the schedule and proposed agenda of a meeting of the NOAA Science Advisory Board (SAB). The members will discuss issues outlined in the section on Matters to be considered.

Time and Date: The meeting will be held Tuesday, February 20, 2018 from 2:00 to 4:00 p.m. Eastern Standard Time (EST). These times and the agenda topic described below are subject to change. For the latest agenda please refer to the SAB website: http://sab.noaa.gov/SABMeetings.aspx.

ADDRESSES: Public access is available at: NOAA, SSMC 3 Room 11836, 1315 East-West Highway, Silver Spring, MD. Members of the public may participate virtually by registering at: https://attendee.gotowebinar.com/register/2013943949799846914.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The meeting will be open to public participation with a 10-minute public comment period at 3:45-3:55 p.m. EST. The SAB expects that public statements presented at its meetings will not be repetitive of previously submitted verbal or written statements. In general, each individual or group making a verbal presentation will be limited to a total time of two (2) minutes. Written comments for the meeting should be received in the SAB Executive Director's Office by February 13, 2018 to provide sufficient time for SAB review. Written comments received after by the SAB Executive Director after these dates will be distributed to the SAB, but may not be reviewed prior to the meeting date.

Special Accommodations: This meeting is physically accessible to people with disabilities. Requests for special accommodations may be directed to the Executive Director no later than 12 p.m. on February 13th.

Matters To Be Considered: The meeting will include discussions on the SAB biennial work plan. Meeting materials, including work products will be made available on the SAB website: http://sab.noaa.gov/SABMeetings.aspx.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

Dated: December 7, 2017.
David Holst,
Chief Financial Officer/CAO, Office of Oceanic and Atmospheric Research, National Oceanic and Atmospheric Administration.

[FR Doc. 2017-27185 Filed 12-15-17; 8:45 am]

BILLING CODE 3510-KD-P